DEPARTMENT OF TRANSPORTATION

Federal Aviation Administration

14 CFR Part 39

[Docket No. FAA-2020-0454; Product Identifier 2019-SW-113-AD; Amendment 39-19911; AD 2020-09-15]

RIN 2120-AA64

Airworthiness Directives; Airbus Helicopters

AGENCY: Federal Aviation Administration (FAA), DOT.

ACTION: Final rule; request for comments.

SUMMARY: The FAA is adopting a new airworthiness directive (AD) for certain Airbus Helicopters Model AS332C, AS332C1, AS332L, and AS332L1 helicopters. This AD was prompted by a report of vibrations around the 12Hz frequency due to the specific helicopter configuration. This AD requires removing the removable parts of the dual hoist installation or removing the de-icing system. This AD also allows, for certain helicopters, revising the Rotorcraft Flight Manual (RFM) for your helicopter and installing a placard as an optional method of compliance. The FAA is issuing this AD to address the unsafe condition on these products.

DATES: This AD becomes effective May 20, 2020.

The Director of the Federal Register approved the incorporation by reference of certain publications listed in this AD as of May 20, 2020.

The FAA must receive comments on this AD by July 6, 2020.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC, between 9 a.m. and 5 p.m., Monday through Friday, except Federal holidays.

For service information identified in this final rule, contact Airbus Helicopters, 2701 N Forum Drive, Grand Prairie, TX 75052; telephone 972-641-0000 or 800-232-0323; fax 972-641-3775; or at https://www.airbus.com/helicopters/services/technical-support.html. You may view this service information at the FAA, Office of the Regional Counsel, Southwest Region, 10101 Hillwood Pkwy., Room 6N-321, Fort Worth, TX 76177. It is also available on the internet at https://www.regulations.gov by searching for and locating Docket No. FAA-2020-0454.

Examining the AD Docket

You may examine the AD docket on the internet at https://www.regulations.gov by searching for and locating Docket No. FAA-2020-0454; or in person at Docket Operations between 9 a.m. and 5 p.m., Monday through Friday, except Federal holidays. The AD docket contains this AD, the European Union Aviation Safety Agency (EASA) AD, any service information that is incorporated by reference, any comments received, and other information. The street address for Docket Operations is listed above. Comments will be available in the AD docket shortly after receipt.

FOR FURTHER INFORMATION CONTACT: Kathleen Arrigotti, Aerospace Engineer, Large Aircraft Section, International Validation Branch, FAA, 2200 South 216th St., Des Moines, WA 98198; telephone and fax 206-231-3218; email Kathleen.Arrigotti@faa.gov.

SUPPLEMENTARY INFORMATION:

Discussion

EASA, which is the Technical Agent for the Member States of the European Union, has issued EASA AD 2018-0142R1, dated December 9, 2019 (referred to after this as the Mandatory Continuing Airworthiness Information, or “the MCAI”), to correct an unsafe condition for certain Airbus Helicopters Model AS332C, AS332C1, AS332L, and AS332L1 helicopters. EASA advises that during the first flight of an Airbus Helicopters Model AS332L helicopter after a retrofit that re-installed the de-icing system, vibrations around the 12Hz frequency were observed. Subsequent flight tests and analysis determined that this vibration is due the specific helicopter configuration. Factors that contributed to the vibration included simultaneous installation of riveted main frames X3855 and X5295 (pre-Airbus Helicopter modification 0722907), additional weight created by parts of the rotor de-icing system on the main rotor head (the distributor and de-icing harnesses), and removable parts (hoist arm and hoists) of the dual hoist installation. EASA advises that this condition, if not corrected, could generate divergent aeromechanic coupling between the helicopter structure and the rotor, possibly resulting in mechanical failure of structural parts and loss of control of the helicopter.

EASA issued Emergency AD 2018-0142-E, dated July 6, 2018, for certain Model AS332C, AS332C1, AS332L, and AS332L1 helicopters, which required the removal of removable parts of the dual hoist installation or removal of the de-icing system. Since EASA Emergency AD 2018-0142-E, dated July 6, 2018, was issued, additional flight tests demonstrated that Model AS332L and AS332L1 helicopters do not exhibit the vibration at 12Hz when limiting the operational flight envelope and Vne (never-exceed speed). As a result, EASA advises that revising the RFM for Model AS332L and AS332L1 helicopters to incorporate certain limitations and installing a locally made placard is an optional method of compliance for Model AS332L and AS332L1 helicopters.

You may examine the MCAI in the AD docket on the internet at https://www.regulations.gov by searching for and locating Docket No. FAA-2020-0454.

Related Service Information Under 1 CFR Part 51

Airbus Helicopters has issued Emergency Alert Service Bulletin AS332 01.00.91, Revision 1, dated December 4, 2019 (AS332 01.00.91 Rev 1). This service information describes procedures for removing parts of the dual hoist installation or removing the de-icing system.

Airbus Helicopters has also issued Emergency Alert Service Bulletin AS332 01.00.96, Revision 0, dated December 4, 2019. This service information describes procedures for amending the RFM of Model AS332L and AS332L1 helicopters to limit the flight envelope and the Vne and installing a placard. This service information also describes procedures for removing parts of the dual hoist installation or removing the de-icing system.

This service information is reasonably available because the interested parties have access to it through their normal course of business or by the means identified in the ADDRESSES section.

Other Related Service Information

Airbus Helicopters issued Emergency Alert Service Bulletin AS332 01.00.91, Revision 0, dated July 3, 2018 (AS332 01.00.91 Rev 0). AS332 01.00.91 Rev 0 contains the same procedures as AS332 01.00.91 Rev 1; however, AS332 01.00.91 Rev 1 removes Model AS332L and AS332L1 helicopters from the effectivity.

FAA's Determination

This product has been approved by the aviation authority of another country, and is approved for operation in the United States. Pursuant to the FAA's bilateral agreement with the State of Design Authority, the FAA has been notified of the unsafe condition described in the MCAI and service information referenced above. The FAA is issuing this AD after evaluating all pertinent information and determining the unsafe condition exists and is likely to exist or develop on other products of the same type design.

Requirements of This AD

This AD requires accomplishing the actions specified in the service information described previously.

FAA's Justification for Immediate Adoption and Determination of the Effective Date

Section 553(b)(3)(B) of the Administrative Procedure Act (APA) (5 U.S.C.) authorizes agencies to dispense with notice and comment procedures for rules when the agency, for “good cause,” finds that those procedures are “impracticable, unnecessary, or contrary to the public interest.” Under this section, an agency, upon finding good cause, may issue a final rule without seeking comment prior to the rulemaking. Similarly, Section 553(d) of the APA authorizes agencies to make rules effective in less than thirty days, upon a finding of good cause.

An unsafe condition exists that requires the immediate adoption of this AD without providing an opportunity for public comments prior to adoption. The FAA has found that the risk to the flying public justifies waiving notice and comment prior to adoption of this rule because of vibrations around the 12Hz frequency that are due to the specific helicopter configuration, which could generate divergent aeromechanic coupling between the helicopter structure and the rotor, possibly resulting in mechanical failure of structural parts and loss of control of the helicopter. The FAA determined a compliance time of 7 days is required to correct the unsafe condition. This compliance time is shorter than the time necessary for the public to comment and for publication of the final rule.

Accordingly, notice and opportunity for prior public comment are impracticable pursuant to 5 U.S.C. 553(b)(3)(B). In addition, for the reasons stated above, the FAA finds that good cause exists pursuant to 5 U.S.C. 553(d) for making this amendment effective in less than 30 days.

Comments Invited

This AD is a final rule that involves requirements affecting flight safety, and was not preceded by notice and opportunity for public comment. However, the FAA invites you to send any written relevant data, views, or arguments about this AD. Send your comments to an address listed under the ADDRESSES section. Include “Docket No. FAA-2020-0454; Product Identifier 2019-SW-113-AD” at the beginning of your comments. The FAA specifically invites comments on the overall regulatory, economic, environmental, and energy aspects of this AD. The FAA will consider all comments received by the closing date and may amend this AD based on those comments.

The FAA will post all comments received, without change, to https://www.regulations.gov, including any personal information you provide. The FAA will also post a report summarizing each substantive verbal contact received about this AD.

Interim Action

The FAA considers this AD interim action. If final action is later identified, the FAA might consider further rulemaking then.

Regulatory Flexibility Act (RFA)

The requirements of the RFA do not apply when an agency finds good cause pursuant to 5 U.S.C. 553 to adopt a rule without prior notice and comment. Because the FAA has determined that it has good cause to adopt this rule without notice and comment, RFA analysis is not required.

Costs of Compliance

The FAA estimates that this AD affects 12 helicopters of U.S. registry. The FAA estimates the following costs to comply with this AD:

Estimated Costs for Required Actions
Labor cost | Parts cost | Cost per product | Cost on U.S. operators
Up to 12 work-hours × $85 per hour = Up to $1,020 | $0 | Up to $1,020 | Up to $12,240.

Estimated Costs for Optional Actions
Labor cost | Parts cost | Cost per product | Cost on U.S. operators
7 work-hours × $85 per hour = $595 | Negligible | $595 | $7,140

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2020-09-15 Airbus Helicopters: Amendment 39-19911; Docket No. FAA-2020-0454; Product Identifier 2019-SW-113-AD.

(a) Effective Date

This AD becomes effective May 20, 2020.

(b) Affected ADs

None.

(c) Applicability

This AD applies to Airbus Helicopters Model AS332C, AS332C1, AS332L, and AS332L1 helicopters, certificated in any category, equipped with a dual hoist installation and de-icing system, except those that have Airbus Helicopters modification 0722907 installed in production.

(d) Subject

Joint Aircraft Service Component (JASC) Code 2500, Cabin Equipment/Furnishings; 3000, Ice/Rain Protection System; 5300, Fuselage Structure (General).

(e) Reason

This AD was prompted by a report of vibrations around the 12Hz frequency due to the specific helicopter configuration. The FAA is issuing this AD to address this condition, which could generate divergent aeromechanic coupling between the helicopter structure and the rotor, possibly resulting in mechanical failure of structural parts and loss of control of the helicopter.

(f) Compliance

Comply with this AD within the compliance times specified, unless already done.

(g) Required Actions

Within 7 days after the effective date of this AD: Remove the removable parts of the dual hoist installation or remove the de-icing system in accordance with the instructions of section 3.B of Airbus Helicopters Emergency Alert Service Bulletin AS332 01.00.91, Revision 1, dated December 4, 2019, or Section 3.B.2 of Airbus Helicopters Emergency Alert Service Bulletin AS332 01.00.96, Revision 0, dated December 4, 2019, as applicable to your helicopter, except you are not required to contact Airbus Helicopters.

(h) Optional Method of Compliance

For Airbus Helicopter Model AS332L or AS332L1 helicopters: Revising the Rotorcraft Flight Manual for your helicopter by inserting the information specified in Appendix 4A, 4B, or 4C of Airbus Helicopters Emergency Alert Service Bulletin AS332 01-00.96, Revision 0, dated December 4, 2019, as applicable to your helicopter model and configuration, and installing a locally made placard on the instrument panel, in accordance with the instructions of section 3.B.1 of Airbus Helicopters Emergency Alert Service Bulletin AS332 01-00.96, Revision 0, dated December 4, 2019, is an acceptable method for compliance with the requirements of paragraph (g) of this AD.

(i) Credit for Previous Actions

This paragraph provides credit for actions required by paragraph (g) of this AD, if those actions were performed before the effective date of this AD using Airbus Helicopters Emergency Alert Service Bulletin AS332 01.00.91, Revision 0, dated July 3, 2018.

(j) Special Flight Permit

Special flight permits may be issued in accordance with 14 CFR 21.197 and 21.199 to operate the helicopter to a location where the helicopter can be modified as specified in paragraph (g) of this AD, provided the Rotorcraft Flight Manual revisions and the locally made placard specified in paragraph (h) of this AD are in place.

(k) Alternative Methods of Compliance (AMOCs)

(1) The Manager, Safety Management Section, Rotorcraft Standards Branch, FAA, may approve AMOCs for this AD. Send your proposal to: Manager, Safety Management Section, Rotorcraft Standards Branch, FAA, 10101 Hillwood Pkwy., Fort Worth, TX 76177; telephone 817-222-5110; email 9-ASW-FTW-AMOC-Requests@faa.gov.

(2) For operations conducted under a 14 CFR part 119 operating certificate or under 14 CFR part 91, subpart K, notify your principal inspector or lacking a principal inspector, the manager of the local flight standards district office or certificate holding district office, before operating any aircraft complying with this AD through an AMOC.

(l) Related Information

(1) The subject of this AD is addressed in the European Union Aviation Safety Agency (EASA) AD 2018-0142R1, dated December 9, 2019. This EASA AD may be found in the AD docket on the internet at https://www.regulations.gov by searching for and locating Docket No. FAA-2020-0454.

(2) Service information identified in this AD that is not incorporated by reference is available at the addresses specified in paragraphs (m)(3) and (4) of this AD.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Helicopters Emergency Alert Service Bulletin AS332 01.00.91, Revision 1, dated December 4, 2019.

(ii) Airbus Helicopters Emergency Alert Service Bulletin AS332 01.00.96, Revision 0, dated December 4, 2019.

(3) For service information identified in this AD, contact Airbus Helicopters, 2701 N Forum Drive, Grand Prairie, TX 75052; telephone 972-641-0000 or 800-232-0323; fax 972-641-3775; or at https://www.airbus.com/helicopters/services/technical-support.html.

(4) You may view this service information at the FAA, Office of the Regional Counsel, Southwest Region, 10101 Hillwood Pkwy., Room 6N-321, Fort Worth, TX 76177.

(5) You may view this service information that is incorporated by reference at the National Archives and Records Administration (NARA). For information on the availability of this material at NARA, email fedreg.legal@nara.gov, or go to: https://www.archives.gov/federal-register/cfr/ibr-locations.html.

Issued on May 13, 2020.
Gaetano A. Sciortino,
Deputy Director for Strategic Initiatives, Compliance & Airworthiness Division, Aircraft Certification Service.

[FR Doc. 2020-10667 Filed 5-19-20; 8:45 am]

BILLING CODE 4910-13-P